INTERNATIONAL TRADE COMMISSION

[Investigation No. 337-TA-1174]

Certain Toner Cartridges, Components Thereof, and Systems Containing Same; Institution of Investigation

AGENCY: U.S. International Trade Commission.

ACTION: Notice.

SUMMARY: Notice is hereby given that a complaint was filed with the U.S. International Trade Commission on August 19, 2019, under section 337 of the Tariff Act of 1930, as amended, on behalf of Brother Industries, Ltd. of Japan, Brother International Corp. (U.S.A.) of Bridgewater, New Jersey, and Brother Industries (U.S.A., Inc.) of Bartlett, Tennessee. A supplement to the complaint was filed on August 20, 2019. The complaint alleges violations of section 337 based upon the importation into the United States, the sale for importation, and the sale within the United States after importation of certain toner cartridges, components thereof, and systems containing same by reason of infringement of certain claims of U.S. Patent No. 9,568,856 (“the ’856 patent”); U.S. Patent No. 9,575,460 (“the ’460 patent”); U.S. Patent No. 9,632,456 (“the ’456 patent”); U.S. Patent No. 9,785,093 (“the ’093 patent”); and U.S. Patent No. 9,846,387 (“the ’387 patent”). The complaint further alleges that an industry in the United States exists as required by the applicable Federal Statute.

The complainant requests that the Commission institute an investigation and, after the investigation, issue a general exclusion order, or in the alternative a limited exclusion order, and cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations, U.S. International Trade Commission, telephone (202) 205-2560.

SUPPLEMENTARY INFORMATION: The authority for institution of this investigation is contained in section 337 of the Tariff Act of 1930, as amended, 19 U.S.C. 1337, and in section 210.10 of the Commission's Rules of Practice and Procedure, 19 CFR 210.10 (2019).

Scope of Investigation: Having considered the complaint, the U.S. International Trade Commission, on September 17, 2019, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-5, 10, and 12-15 of the ’093 patent; claims 1, 7-11, 15, and 16 of the ’460 patent; claims 1-7 and 9 of the ’856 patent; claims 1, 4-5, and 9 of the ’456 patent; and claims 1, 3, 5, 7-12, and 18 of the ’387 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “laser toner cartridges designed for use with Brother printers, fax machines, and Multi-Function Centers (`MFCs')”;

(3) For the purpose of the investigation so instituted, the following are hereby named as parties upon which this notice of investigation shall be served:

(a) The complainants are:

Brother Industries, Ltd., 15-1, Naeshiro-cho, Mizuho-ku Nagoya-shi, Aichi-ken, Japan 467-8561

Brother International Corporation (U.S.A.), 200 Crossing Boulevard, Bridgewater, NJ 08807

Brother Industries (U.S.A.), Inc., 7819 North Brother Boulevard, Bartlett, TN 38133

(b) The respondents are the following entities alleged to be in violation of section 337, and are the parties upon which the complaint is to be served:

AMI Brothers, Inc., 1001 Bayhill Drive, Suite 200, San Bruno, CA 94066

An An Beauty Limited, Flat/Room 2104 21/F, Mongkok Commercial Centre, 16 Argyle Street, Mongkok, Kowloon, Hong Kong 999077

Aster Graphics, Inc., 12000 Magnolia Avenue, Suite 101, Riverside, CA 92503

Aztech Enterprises Limited, Units 1206, 12/F, Cheuk Nang Center, 9 Hillwood Road, Kowloon, Hong Kong 999077

Billiontree Technology USA Inc., 19945 Harrison Avenue, City of Industry, CA 91789

Carlos Imaging Supplies, Inc., PMB 540, 17128 Colima Road, Hacienda Heights, CA 91745

Cartridge Evolution, Inc., 120 41st Street, Unit 3R, Brooklyn, New York 11232

Do it Wiser, LLC, 3422 Old Capital Trail, Suite 747, Wilmington, DE 19808

Eco Imaging Inc., PMB A839, 14252 Culver Drive, Irvine, CA 92604

Ecoolsmart Co., PMB 322, 17360 Colima Road, Rowland Heights, CA 91748

EPrinter Solution LLC, 2705 Pomona Boulevard, Pomona, CA 91768

E-Z Ink Inc., 120 41st Street, Unit 2R, Brooklyn, NY 11232

Globest Trading Inc., 1251 South Rockefeller Avenue, Unit B, Ontario, CA 91761

Greencycle Tech, Inc., 9638 Rush Street, Unit E, South El Monte, CA 91733

Hongkong Boze Co., Ltd., Flat/Room A 27/F, Billion Plaza 2, 10 Cheung Yee Street, Lai Chi Kok, Kowloon, Hong Kong 999077

I8 International, Inc., 19961 Harrison Avenue, City of Industry, CA 91789

IFree E-Commerce Co., Flat/Room B 8/F, Chong Ming Building, 72 Cheung Sha Wan Road, Kowloon, Hong Kong 999077

Ikong E-Commerce, PMB 429, 385 South Lemon Avenue, Suite E, Walnut, CA 91789

Intercon International Corp., PMB 109, 407 West Imperial Highway, Suite H, Brea, CA 92821

IPrint Enterprise Limited, Rooms 1318-19, 13/F, Hollywood Plaza, 610 Nathan Road, Mongkok, Kowloon, Hong Kong 999077

LD Products, Inc., 3700 Cover Street, Long Beach, CA 90808

Linkyo Corp., 629 South 6th Avenue, La Puente, CA 91746

Mangoket LLC, 1641 West Main Street, Suite 222, Alhambra, CA 91801

New Era Image LLC, 1499 Pomona Road, Suite G, Corona, CA 92882

OW Supplies Corp., 13445 Estelle Street, Corona, CA 92879

Solong E-Commerce Co., LLC, Flat/Room 19C, Lockhart Center, 301-307 Lockhart Road, Wan Chai, Hong Kong 999077

Smartjet E-Commerce Co., LLC, Flat/Room A 20/F, Kiu Fu Commercial Building, 300 Lockhart Road, Wan Chai, Hong Kong 999077

Super Warehouse Inc., 1160 Yew Avenue, DSS-5179, Blaine, WA 98230

Theresa Meng, 1424 Bath Avenue, Brooklyn, NY 11228

Triple Best LLC, 13858 Torrey Bella Court, San Diego, CA 92129

V4ink, Inc., PMB 296, 516 North Diamond Bar Boulevard, Diamond Bar, CA 91765

Zhuhai Xiaohui E-Commerce Co., Ltd., Room 502, Factory Five, No. 12, Pingdong 3rd Road, Nanping Keji Industrial Park, Xiangzhou District, Zhuhai, China 519000

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: September 17, 2019.
Lisa Barton,
Secretary to the Commission.

[FR Doc. 2019-20461 Filed 9-20-19; 8:45 am]

BILLING CODE 7020-02-P